DEPARTMENT OF AGRICULTURE

Food and Nutrition Service

7 CFR Part 246

RIN 0584-AE21

Special Supplemental Nutrition Program for Women, Infants and Children (WIC): Implementation of Electronic Benefit Transfer-Related Provisions

Correction

In rule document 2016-04261 beginning on page 10433 in the issue of Tuesday, March 1, make the following correction:

§ 246.12 [Corrected]

On page 10450, in the second column, in § 246.12(y)(3), in the second line, “May 31, 2016” should read “August 1, 2016”.

[FR Doc. C1-2016-04261 Filed 3-30-16; 8:45 am]

BILLING CODE 1505-01-D